DEPARTMENT OF STATE

[Public Notice 9877]

Notice of Public Meeting

The Department of State will conduct an open meeting at 10:00 a.m. on Thursday, March 2, 2017 at the offices of the Radio Technical Commission for Maritime Services (RTCM), 1611 N. Kent Street Suite 605, Arlington, VA 22209. The primary purpose of the meeting is to prepare for the fourth session of the International Maritime Organization's (IMO) Sub-Committee on Ship Systems and Equipment to be held at the IMO Headquarters, United Kingdom, March 20-24, 2017.

The agenda items to be considered include:

—Adoption of the agenda

—Decisions of other IMO bodies

—Safety objectives and functional requirements of the Guidelines on alternative design and arrangements for SOLAS chapters II-1 and III

—Making the provisions of MSC.1/Circ.1206/Rev.1 mandatory

—Uniform implementation of paragraph 6.1.1.3 of the LSA Code

—Review the MODU Code, LSA Code and MSC.1/Circ.1206/Rev.1

—Amendments to the FSS Code for CO2 pipelines in under-deck passageways

—Requirements for on-board lifting appliances and winches

—Amendments to the Guidelines for vessels with dynamic positioning (DP) systems (MSC/Circ.645)

—Revision of requirements for escape route signs and equipment location markings in SOLAS and related instruments

—Revised SOLAS regulations II-1/13 and II-1/13-1 and other related regulations for new ships

—Unified interpretation of provisions of IMO safety, security, and environment related conventions

—Review SOLAS chapter II-2 and associated codes to minimize the incidence and consequences of fires on ro-ro spaces and special category spaces of new and existing ro-ro passenger ships

—Develop new requirements for ventilation of survival crafts

—Consequential work related to the new Polar Code

—Biennial status report and provisional agenda for SSE 5

—Election of Chair and Vice-Chair for 2018

—Any other business

Members of the public may attend this meeting up to the seating capacity of the room. Upon request to the meeting coordinator, members of the public may also participate via teleconference, up to the capacity of the teleconference phone line. To access the teleconference line, participants should call (202) 475-4000 and use Participant Code: 887 809 72. In order to ensure reasonable accommodation for the full number of meeting participants, those who plan to attend should contact the meeting coordinator, LT Chris Briggs, by email at Christopher.M.Briggs@uscg.mil, by phone at (202) 372-1393, or in writing at 2703 Martin Luther King Jr. Ave. SE., Stop 7509, Washington DC 20593-7509 not later than February 23, 2017. Requests made after February 23, 2017 might not be able to be accommodated. RTCM Headquarters is located adjacent to the Rosslyn Metro station and is accessible by taxi and privately owned conveyance.

In the case of inclement weather where the Federal Government is closed or delayed, a public meeting may be conducted virtually by calling (202) 475-4000 or 1 (855) 475-2447, Participant code: 887 809 72. The meeting coordinator will confirm whether the virtual public meeting will be utilized at: www.uscg.mil/imo. Members of the public can find out whether the Federal Government is delayed or closed by visiting www.opm.gov/status/. Additional information regarding this and other IMO public meetings may be found at: www.uscg.mil/imo.

Jonathan W. Burby,
Coast Guard Liaison Officer, Office of Ocean and Polar Affairs, Department of State.

[FR Doc. 2017-02601 Filed 2-8-17; 8:45 am]

BILLING CODE 4710-09-P